DEPARTMENT OF HEALTH AND HUMAN SERVICES

Health Resources and Services Administration

Statement of Organization, Functions and Delegations of Authority

This notice amends Part R of the Statement of Organization, Functions and Delegations of Authority of the Department of Health and Human Services (HHS), Health Resources and Services Administration (HRSA) (60 FR 56605, as amended November 6, 1995; as last amended at 78 FR 38720-38723 dated June 27, 2013).

This notice reflects organizational changes in the Health Resources and Services Administration (HRSA). This notice updates the functional statements for the Office of Communications and the Office of Management. Specifically, this notice: (1) Transfers the Freedom of Information Act function from the Office of Communications (RA6) to the Office of Management (RB4), Division of Policy and Information Coordination (RB41); and (2) updates the functional statements for the Office of Communications, the Office of Management, and the Division of Policy and Information Coordination.

Chapter RA6—Office of Communications

Section RA6-20, Functions

Delete the functional statement for the Office of Communications (RA6) and replace in its entirety with the following:

The Office of Communications (RA6) provides leadership and general policy and program direction, and conducts and coordinates communications and public affairs activities of the agency. Specifically, the Office of Communications: (1) Serves as focal point for coordination of agency communications activities with those of other health agencies within the Department of Health and Human Services and with field, state, local, voluntary, and professional organizations; (2) develops and implements national communications initiatives to inform and educate the public, health care professionals, policy makers, and the media; (3) coordinates, researches, writes, and prepares speeches and audiovisual presentations for the HRSA Administrator and staff; (4) provides communication and public affairs expertise and staff advice and support to the Administrator in program and policy formulation and execution consistent with policy direction established by the Assistant Secretary for Public Affairs; (5) develops and implements policies and procedures related to external media relations and internal employee communications including those for the development, review, processing, quality control, and dissemination of agency communications materials, including exhibits and those disseminated electronically; (6) serves as Communications and Public Affairs Officer for the agency including establishment and maintenance of productive relationships with the news media; (7) serves as focal point for intergovernmental affairs for the agency; and (8) manages audio, visual, and multimedia activities in support of communications efforts through multiple media formats.

Chapter RB4—Office of Management

Section RB4-20, Functions

Delete the functional statement for the immediate Office of Management (RB4) and the Division of Policy and Information Coordination (RB41) and replace in its entirety with the following:

Office of Management (RB4)

Provides HRSA-wide leadership, program direction, and coordination of all phases of administrative management. Specifically, the Office of Management: (1) Provides management expertise, staff advice, and support to the Administrator in program and policy formulation and execution; (2) provides administrative management services including human resources, property management, space planning, safety, physical security, and general administrative services; (3) conducts HRSA-wide workforce analysis studies and surveys; (4) plans, directs, and coordinates HRSA's activities in the areas of human resources management, including labor relations, personnel security, and performance; (5) coordinates the development of policy and regulations; (6) oversees the development of annual operating objectives and coordinates HRSA work planning and appraisals; (7) directs and coordinates the agency's organizations, functions and delegations of authority programs; (8) administers the agency's Executive Secretariat and committee management functions; (9) provides staff support to the agency Chief Travel Official; (10) provides staff support to the Deputy Ethics Counselor; (11) directs, coordinates, and conducts workforce development activities for the agency; and (12) coordinates the implementation of the Freedom of Information Act for the agency.

Division of Policy and Information Coordination (RB41)

(1) Advises the Administrator and other key agency officials on cross-cutting policy issues and assists in the identification and resolution of cross-cutting policy issues and problems; (2) establishes and maintains tracking systems that provide HRSA-wide coordination and clearance of policies, regulations and guidelines; (3) plans, organizes and directs the Executive Secretariat with primary responsibility for preparation and management of written correspondence; (4) arranges briefings for Department officials on critical policy issues and oversees the development of necessary briefing documents; (5) coordinates the preparation of proposed rules and regulations relating to HRSA programs and coordinates review and comment on other Department regulations and policy directives that may affect HRSA programs; (6) oversees and coordinates the committee management activities; and (7) coordinates the review and publication of Federal Register Notices; and (8) coordinates the implementation of the Freedom of Information Act for the agency.

Section RB4-30, Delegations of Authority

All delegations of authority and re-delegations of authority made to HRSA officials that were in effect immediately prior to this reorganization, and that are consistent with this reorganization, shall continue in effect pending further re-delegation.

This reorganization is effective upon date of signature.

Dated: July 9, 2013.
Mary K. Wakefield,
Administrator.

[FR Doc. 2013-16899 Filed 7-12-13; 8:45 am]

BILLING CODE 4165-15-P